DEPARTMENT OF HOMELAND SECURITY

Federal Emergency Management Agency

44 CFR Part 67

[Docket ID FEMA-2010-0003; Internal Agency Docket No. FEMA-B-1117]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 1, 2010.

ADDRESSES: The corresponding preliminary Flood Insurance Rate Map (FIRM) for the proposed BFEs for each community is available for inspection at the community's map repository. The respective addresses are listed in the table below.

You may submit comments, identified by Docket No. FEMA-B-1117, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Santa Cruz County, Arizona, and Incorporated Areas
Ephraim Canyon Wash | At the confluence with Nogales Wash | +3806 | +3810 | City of Nogales.
| Approximately 1,900 feet downstream of I-19 | +3897 | +3899
Mariposa Canyon | At the confluence with Nogales Wash | +3740 | +3746 | City of Nogales, Unincorporated Areas of Santa Cruz County.
| Approximately 1.3 mile upstream of SR 189 | None | +3965
Nogales Wash | Approximately 1,300 feet upstream of Old Tucson Road | +3647 | +3644 | City of Nogales, Unincorporated Areas of Santa Cruz County.
| Approximately 100 feet upstream of West International Street | +3873 | +3872
Potrero Creek | At the confluence with Al Harrison Wash | +3650 | +3646 | City of Nogales.
| Approximately 0.7 mile upstream of West Meadow Hills Drive | +3725 | +3726
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Nogales
Maps are available for inspection at 2150 North Congress Drive, Nogales, AZ 85621.
Unincorporated Areas of Santa Cruz County
Maps are available for inspection at 2150 North Congress Drive, Nogales, AZ 85621.
Boyle County, Kentucky, and Incorporated Areas
Balls Branch (Backwater effects from Clarks Run) Clarks Run | From the confluence with Clarks Run to approximately 0.7 mile upstream of the confluence with Clarks Run | None | +875 | Unincorporated Areas of Boyle County.
| At approximately 1.2 miles upstream of Goggin Road | None | +849 | City of Danville, Unincorporated Areas of Boyle County.
| At approximately 0.6 mile downstream of Alum Springs Cross Pike | None | +965
Dix River Tributary 2 (Backwater effects from Herrington Lake) Herrington Lake | From the confluence with Herrington Lake to approximately 1,158 feet upstream of the confluence with Herrington Lake | None | +760 | Unincorporated Areas of Boyle County.
| Entire shoreline | None | +760 | Unincorporated Areas of Boyle County.
Spears Creek | At approximately 0.6 mile upstream of the confluence with Herrington Lake | None | +788 | City of Danville, Unincorporated Areas of Boyle County.
| At approximately 780 feet upstream of the North Danville Bypass | None | +919
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Danville
Maps are available for inspection at City Hall, 455 West Main Street, Danville, KY 40422.
Unincorporated Areas of Boyle County
Maps are available for inspection at the Boyle County Courthouse, 321 West Main Street, Danville, KY 40422.
Logan County, Kentucky, and Incorporated Areas
Proctor Branch | Approximately 400 feet upstream of Bismarck Lane | None | +525 | City of Russellville, Unincorporated Areas of Logan County.
| Approximately 0.3 mile upstream of the confluence with Proctor Branch Tributary A | None | +599
Proctor Branch Tributary A | Just upstream of the confluence with Proctor Branch | None | +585 | City of Russellville.
| Approximately 1,100 feet upstream of the confluence with Proctor Branch | None | +601
Proctor Branch Tributary B | At the confluence with Proctor Branch | None | +579 | City of Russellville, Unincorporated Areas of Logan County.
| Approximately 200 feet downstream of Hi-View Drive | None | +592
Town Branch | Approximately 800 feet downstream of Concord Road | None | +517 | City of Russellville, Unincorporated Areas of Logan County.
| Just downstream of Newton Road | None | +563
| Just upstream of West 9th Street (U.S. Route 431) | None | +621
| Approximately 1,900 feet upstream of West 9th Street (U.S. Route 431) | None | +623
Town Branch Tributary D | Approximately 350 feet upstream of the confluence with Town Branch Tributary E | None | +607 | Unincorporated Areas of Logan County.
| Approximately 700 feet upstream of Warren Road | None | +643
* National Geodetic Vertical Datum.
+thnsp;North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Russellville
Maps are available for inspection at 168 South Main Street, Russellville, KY 42276.
Unincorporated Areas of Logan County
Maps are available for inspection at 299 West 3rd Street, Russellville, KY 42276.
Woodford County, Kentucky, and Incorporated Areas
Brushy Run (Backwater effects from Kentucky River) | From the confluence with the Kentucky River to approximately 0.4 mile upstream of the confluence with the Kentucky River | None | +542 | Unincorporated Areas of Woodford County.
Bucks Run (Backwater effects from Kentucky River) | From the confluence with the Kentucky River to approximately 125 feet downstream of Buck Run Road | None | +519 | Unincorporated Areas of Woodford County.
Clear Creek (Backwater effects from Kentucky River) | From the confluence with the Kentucky River to approximately 2.5 miles upstream of the confluence with the Kentucky River | None | +531 | Unincorporated Areas of Woodford County.
Craig Creek (Backwater effects from Kentucky River) | From the confluence with the Kentucky River to approximately 1,220 feet upstream of Gun Club Road | None | +527 | Unincorporated Areas of Woodford County.
Glenns Creek (Backwater effects from Kentucky River) | From the confluence with the Kentucky River to approximately 1.2 mile upstream of the confluence with the Kentucky River | +511 | +513 | Unincorporated Areas of Woodford County.
Grier Creek (Backwater effects from Kentucky River) | From the confluence with the Kentucky River to approximately 200 feet downstream of Shryocks Ferry Road | None | +524 | Unincorporated Areas of Woodford County.
Kentucky River | Approximately 2.3 miles downstream of Kentucky River Tributary 92 | +508 | +514 | Unincorporated Areas of Woodford County.
| Approximately 5.0 miles upstream of Kentucky River Tributary 5 | +545 | +547
Kentucky River Tributary 5 (Backwater effects from Kentucky River) | From the confluence with the Kentucky River to approximately 950 feet upstream of the confluence with the Kentucky River | None | +543 | Unincorporated Areas of Woodford County.
Kentucky River Tributary 84 (Backwater effects from Kentucky River) | From the confluence with the Kentucky River to approximately 510 feet upstream of the confluence with the Kentucky River | None | +539 | Unincorporated Areas of Woodford County.
Kentucky River Tributary 92 (Backwater effects from Kentucky River) | From the confluence with the Kentucky River to approximately 1,770 feet upstream of the confluence with the Kentucky River | None | +515 | Unincorporated Areas of Woodford County.
Lee Branch | Just upstream of Leestown Pike | +778 | +780 | City of Midway, Unincorporated Areas of Woodford County.
| At approximately 860 feet upstream of Old Frankfort Pike | None | +827
Lee Branch Tributary 4 (Backwater effects from Lee Branch) | From the confluence with Lee Branch to approximately 720 feet upstream of the confluence with Lee Branch | None | +810 | Unincorporated Areas of Woodford County.
Lee Branch Tributary 6 (Backwater effects from Lee Branch) | From the confluence with Lee Branch to approximately 1,145 feet upstream of the confluence with Lee Branch | None | +802 | City of Midway, Unincorporated Areas of Woodford County.
Lee Branch Tributary 7 (Backwater effects from Lee Branch) | From the confluence with Lee Branch to approximately 351 feet upstream of Midway College Road | None | +802 | City of Midway, Unincorporated Areas of Woodford County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Midway
Maps are available for inspection at City Hall, 101 East Main Street, Midway, KY 40347.
Unincorporated Areas of Woodford County
Maps are available for inspection at the Woodford County Courthouse, 103 South Main Street, Versailles, KY 40383.
Marion County, Mississippi, and Incorporated Areas
Pearl River | Approximately 5.5 miles downstream of State Highway 98 | +136 | +134 | City of Columbia, Unincorporated Areas of Marion County.
| Approximately 5 miles upstream of State Highway 35 | +156 | +154
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Columbia
Maps are available for inspection at 201 2nd Street, Columbia, MS 39429.
Unincorporated Areas of Marion County
Maps are available for inspection at 250 Broad Street, Columbia, MS 39429.
Yellowstone County, Montana, and Incorporated Areas
Cove Creek | Approximately 200 feet upstream of Rimrock Road | +3373 | +3375 | City of Billings, Unincorporated Areas of Yellowstone County.
| Approximately 270 feet downstream of Molt Road | +3572 | +3571
Cove Creek East Overflow | Approximately 25 feet upstream of Rimrock Road | None | +3370 | City of Billings, Unincorporated Areas of Yellowstone County.
| Approximately 1,700 feet upstream of Rimrock Road | None | +3382
Fivemile Creek | Downstream of Old Fivemile Creek Road | None | +3085 | City of Billings, Unincorporated Areas of Yellowstone County.
| Approximately 55 feet downstream of Alexander Road | None | +3225
Yellowstone River | Approximately 150 feet upstream of Musselshell Trail Road | None | +2728 | City of Billings, Unincorporated Areas of Yellowstone County.
| Approximately 545 upstream of U.S. Route 212 South | +3273 | +3274
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Billings
Maps are available for inspection at 510 North Broadway, 4th Floor, Billings, MT 59101.
Unincorporated Areas of Yellowstone County
Maps are available for inspection at 217 North 27th Street, Billings, MT 59101.
Arlington County, Virginia
Four Mile Run | At the confluence with the Potomac River | None | +10 | Arlington County.
| Just downstream of Jefferson Davis Memorial Highway (U.S. Route 1) | None | +11
Pimmit Run (Backwater effects from Potomac River) | From the confluence with the Potomac River to a point located approximately 112 feet downstream of Chain Bridge Road | None | +40 | Arlington County.
Potomac River | At the confluence with Four Mile Run | None | +10 | Arlington County.
| Approximately 0.39 mile upstream of Chain Bridge Road | None | +41
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Arlington County
Maps are available for inspection at the Arlington County Government Building, 2100 Clarendon Boulevard, Arlington, VA 22021.

(Catalog of Federal Domestic Assistance No. 97.022, “Flood Insurance.”)

Dated: May 14, 2010.
Sandra K. Knight,
Deputy Federal Insurance and Mitigation Administrator, Mitigation, Department of Homeland Security, Federal Emergency Management Agency.

[FR Doc. 2010-13267 Filed 6-2-10; 8:45 am]

BILLING CODE 9110-12-P